DEPARTMENT OF DEFENSE

Department of the Navy

Notice of Intent To Grant a Partially Exclusive Patent License; U.S. Harvest Postal Protection Services Corp.

AGENCY: Department of the Navy, DOD.

ACTION: Notice.

SUMMARY: The Department of the Navy hereby gives notice of its intent to grant to U.S. Harvest Postal Protection Services, Corp., a revocable, nonassignable, partially exclusive, license to practice worldwide the Government-Owned inventions described in U.S. Patent application Serial No. 10/060605 entitled “A Rapid and Non-Invasive Method to Evaluate Anthrax Immunization Status,” filed 30 January 2002, in the field of medical vaccine evaluation tests for salivary anti-anthrax antibodies in U.S. military and Homeland Security Personnel including; hazardous material (HAZMAT), police, fire, and hospital workers.

DATES: Anyone wishing to object to the grant of this license has fifteen (15) days from the date of this notice to file written objections along with supporting evidence, if any. Written objections are to be filed with the Office of Technology Transfer, Naval Medical Research Center, 503 Robert Grant Ave., Silver Spring, MD 20910-7500, telephone (301) 319-7428.

ADDRESSES: Written objections are to be filed with the Office of Technology Transfer, Naval Medical Research Center, 503 Robert Grant Ave., Silver Spring, MD 20910-7500.

FOR FURTHER INFORMATION CONTACT: Dr. Charles Schlagel, Director, Office of Technology Transfer, Naval Medical Research Center, 503 Robert Grant Ave., Silver Spring, MD 20910-7500, telephone (301) 319-7428.

Dated: November 12, 2002.
R.E. Vincent II,
Lieutenant Commander, Judge Advocate General's Corps, U.S. Navy, Federal Register Liaison Officer.

[FR Doc. 02-29613 Filed 11-20-02; 8:45 am]

BILLING CODE 3810-FF-M